ENVIRONMENTAL PROTECTION AGENCY

40 CFR Part 300

[FRL-7802-7]

National Oil and Hazardous Substances Pollution Contingency Plan; National Priorities List

AGENCY: Environmental Protection Agency.

ACTION: Notice of intent to partially delete the Davenport and Flagstaff Smelters Superfund Site from the National Priorities List.

SUMMARY: The Environmental Protection Agency (EPA) Region 8 is issuing a notice of intent to partially delete the Davenport and Flagstaff Smelters Superfund Site (Site), located in Salt Lake County, Utah, from the National Priorities List (NPL) and requests public comments on this notice of intent. Specifically, EPA intends to delete 23 residential properties within the Site. The NPL constitutes Appendix B to the National Oil and Hazardous Substances Pollution Contingency Plan (NCP), 40 CFR part 300, which EPA promulgated pursuant to section 105 of the Comprehensive Environmental Response, Compensation, and Liability Act (CERCLA)of 1980 as amended. The EPA and the state of Utah, through the Utah Department of Environmental Quality, have determined that all appropriate response actions under CERCLA have been completed for the properties subject to the partial deletion. However, this partial deletion does not preclude future actions under Superfund.

In the “Rules and Regulations” section of today's Federal Register, we are publishing a direct final notice of partial deletion of the Davenport and Flagstaff Smelters Superfund Site without prior notice of intent to partially delete because we view this as a non-controversial revision and anticipate no adverse comment. We have explained our reasons for this partial deletion in the preamble to the direct final partial deletion. If we receive no adverse comment(s) on this notice of intent to partially delete or the direct final notice of partial deletion, we will not take further action on this notice of intent to partially delete. If we receive adverse comment(s), we will withdraw the direct final notice of partial deletion and it will not take effect. We will, as appropriate, address all public comments in a subsequent final partial deletion notice based on this notice of intent to partially delete. We will not institute a second comment period on this notice of intent to partially delete. Any parties interested in commenting must do so at this time. For additional information, see the direct final notice of partial deletion that is located in the “Rules and Regulations” section of this Federal Register.

DATES: Comments concerning this notice must be received by September 20, 2004.

ADDRESSES: Written comments should be addressed to: Britta Copt, Community Involvement Coordinator (80CPI), U.S. EPA Region 8, 999 18th Street, Suite 300, Denver, CO 80202-2466, (303) 312-6229, copt.britta@epa.gov.

FOR FURTHER INFORMATION CONTACT: Stanley Christensen, Remedial Project Manager (8EPR-SR), U.S. EPA Region 8, 999 18th Street, Suite 300, Denver, CO 80202-2466, (303) 312-6694.

SUPPLEMENTARY INFORMATION: For additional information, see the Direct Final Notice of Partial Deletion, which is located in the “Rules and Regulations” section of this Federal Register.

Information Repositories: Comprehensive information on the Davenport and Flagstaff Smelters Superfund Site as well as information specific to this proposed partial deletion is available for review at the following addresses:

U.S. Environmental Protection Agency Region 8 Records Center, 999 18th St., Suite 300, Denver, CO 80202 (303) 312-6473

Hours: M-F, 8:30 a.m. to 4:30 p.m.

Sandy Branch, Salt Lake County Library, 10100 S. Petunia Way, Sandy, UT 84092, (801) 944-7574

Hours: M-Th, 10 a.m. to 9 p.m.; F-Sat., 10 a.m. to 6 p.m.

Utah Department of Environmental Quality, 168 North 1950 West 1st Floor, Salt Lake City, UT 84116, (801) 536-4400

Hours: M-F, 8 a.m. to 5 p.m.

List of Subjects in 40 CFR Part 300

Environmental Protection, Air pollution control, Chemicals, Hazardous waste, Hazardous substances, Intergovernmental relations, Penalties, Reporting and recordkeeping requirements, Water pollution control, Water supply.

Authority: 33 U.S.C. 1321(c)(2); 42 U.S.C. 9601-9657; E.O. 12777, 56 FR 54757, 3 CFR, 1991 Comp., p. 351; E.O. 12580, 52 FR 2923; 3 CFR 1987 Comp., p. 193.

Dated: July 28, 2004.
Robert E. Roberts,
Regional Administrator, Region 8.

[FR Doc. 04-18965 Filed 8-19-04; 8:45 am]

BILLING CODE 6560-50-P